SMALL BUSINESS ADMINISTRATION

[Declaration of Disaster #3309]

State of Oklahoma

As a result of the President's major disaster declaration on November 27, 2000, I find that Caddo and Grady Counties in the State of Oklahoma constitute a disaster area due to damages caused by severe storms and flooding beginning on October 21, 2000 and continuing through October 29, 2000. Applications for loans for physical damage as a result of this disaster may be filed until the close of business on January 26, 2001, and for loans for economic injury until the close of business on August 27, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Blaine, Canadian, Cleveland, Comanche, Custer, Garvin, Kiowa, McClain, Stephens, and Washita in the State of Oklahoma.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury: Businesses and small agricultural cooperatives without credit available elsewhere | 4.000

The number assigned to this disaster for physical damage is 330911 and for economic injury the number is 9J7900.

(Catalog of Federal Domestic Assistance Program Nos. 59002 and 59008)
Dated: November 29, 2000.
Herbert L. Mitchell,
Acting Associate Administrator for Disaster Assistance.

[FR Doc. 00-31062 Filed 12-5-00; 8:45 am]

BILLING CODE 8025-01-P